DEPARTMENT OF HEALTH AND HUMAN SERVICES

National Institutes of Health

National Cancer Institute; Amended Notice of Meeting

Notice is hereby given of a change in the meeting of the National Cancer Institute Special Emphasis Panel, November 07, 2013, 8:00 a.m. to November 07, 2013, 6:00 p.m., Bethesda North Marriott Hotel & Conference Center, 5701 Marinelli Road, Bethesda, MD, 20852 which was published in the Federal Register on August 28, 2013, 78FR53154.

The meeting notice is amended to change the meeting location to the Gaithersburg Marriott Washingtonian Center, 9751 Washingtonian Blvd., Gaithersburg, MD 20878. The date and time of the meeting remains the same. The meeting is closed to the public.

Dated: October 22, 2013.
Melanie J. Gray,
Program Analyst, Office of Federal Advisory Committee Policy.

[FR Doc. 2013-25253 Filed 10-25-13; 8:45 am]

BILLING CODE 4140-01-P